DEPARTMENT OF AGRICULTURE

Submission for OMB Review; Comment Request

February 3, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by March 10, 2014 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Certificate for Poultry and Hatching Eggs for Export.

OMB Control Number: 0579-0048.

Summary of Collection: The Animal Health Protection Act (AHPA) of 2002 is the primary Federal law governing the protection of animal health. The law gives the Secretary of Agriculture broad authority to detect, control, or eradicate pest or diseases of livestock or poultry. The export of agricultural commodities, including poultry and hatching eggs is a major business in the United States and contributes to a favorable balance of trade. As part of its mission to facilitate the export of U.S. poultry and poultry products, the U.S. Department of Agriculture (USDA), Animal and Plant Health Inspection Service (APHIS), Veterinary Services, maintains information regarding the import health requirements of other countries for poultry and hatching eggs exported from the U.S. Most countries require a certification that U.S. poultry and hatching eggs are disease free. VS Form 17-6, Certificate for Poultry & Hatching Eggs for Export, is used to meet these requirements.

Need and Use of the Information: APHIS requires owners and exporters of poultry and hatching eggs to provide health and identification information using VS Form 17-6, to meet these requirements. The certification is crucial to the United States exporter's ability to successfully export poultry and hatching eggs. If the information was collected less frequently or not collected, APHIS would be unable to certify the health status of poultry and hatching eggs exported from the United States.

Description of Respondents: Business or other for-profit.

Number of Respondents: 300.

Frequency of Responses: Reporting: On occasion.

Total Burden Hours: 5,100.

Animal Plant and Health Inspection Service

Title: Importation of Emerald Ash Borer Host Material from Canada.

OMB Control Number: 0579-0319.

Summary of Collection: The United States Department of Agriculture, Animal and Plant Health Inspection Service (APHIS), is responsible for preventing plant diseases or insect pests from entering the United States, preventing the spread of pests and noxious weeds not widely distributed in the United States, and eradicating those imported pests when eradication is feasible. Under the Plant Protection Act (7 U.S.C. 7701—et. seq), the Secretary of Agriculture is authorized to prohibit or restrict the importation, entry, or movement of plants and plant pests to prevent the introduction of plant pests into the United States or their dissemination within the United States. The regulations in 7 CFR Part 319, “Foreign Quarantine Notices,” prohibit or restrict the importation of certain plants and plant products to prevent the introduction or dissemination of plant pests and noxious weeds into the United States. The Foreign Quarantine Notices regulations prohibit or restrict the importation of certain articles from Canada that present the risk of being infested with Emerald Ash Borer (EAB). EAB is a destructive wood-boring insect that attacks ash trees (Fraxinus spp., including green ash, white ash, and several horticultural varieties of ash).

Need and Use of the Information: APHIS will collect information using phytosanitary certificate, permit application, and certificates of inspection. If APHIS did not collect this information, EAB could damage ash trees and cause economic losses to nursery stock and the nursery industry.

Description of Respondents: Business or other-for-profit; Federal Government.

Number of Respondents: 6.

Frequency of Responses: Reporting: On occasion.

Total Burden Hours: 4.

Ruth Brown,
Departmental Information Collection Clearance Officer.

[FR Doc. 2014-02643 Filed 2-6-14; 8:45 am]

BILLING CODE 3410-34-P